DEPARTMENT OF AGRICULTURE

Forest Service

Gallatin National Forest-Hebgen Lake Ranger District; MT; Lonesome Wood Vegetation Management Project 2

AGENCY: Forest Service, USDA.

ACTION: Notice of Intent to prepare an Environmental Impact Statement.

SUMMARY: This integrated forest vegetation management project is designed to achieve the goals of increased firefighter and public safety, reduced wildland fire risks to adjacent property and Forest Service infrastructure, and to enhance aspen forest communities that are in decline. Proposed forest thinning and associated activities target the removal of excessive surface, ladder and crown fuel. This project begins to address the fire behavior concerns that threaten life and property. The scope of action to be addressed in the analysis is limited to actions needed to lessen wildfire risks to life and property in the identified wildland urban interface/evacuation routes in the project area, and whether to implement aspen enhancement.

A decision for this Project was withdrawn in November 2009 to respond to changed conditions related to a district court order effectively relisting the grizzly bear as a threatened species under the Endangered Species Act in the Greater Yellowstone Area. This new analysis will incorporate mitigation and analysis to comply with current direction related to the grizzly bear, and new information for other resources since 1.5 years have lapsed. Otherwise the proposal is the same project analyzed in 2007.

DATES: Comments concerning the scope of the analysis must be received by July 9, 2010. The draft environmental impact statement is expected July 2010 and the final environmental impact statement is expected November 2010.

ADDRESSES: Send written comments to Gallatin National Forest, Attn: Lonesome Wood Vegetation Management Project 2, Bozeman Ranger District, 3710 Fallon St., Ste. C., Bozeman, MT 59730. Comments may also be sent via e-mail to: comments-northern-gallatin@fs.fed.us, or via facsimile to 406-587-2528. Electronic comments must be submitted in Microsoft Word format. It is important that reviewers provide their comments at such times and in such a way that they are useful to the Agency's preparation of the EIS. Therefore, comments should be provided prior to the close of the comment period and should clearly articulate the reviewer's concerns and contentions specific to the Proposal.

Comments received in response to this solicitation, including names and addresses of those who comment, will be part of the public record for this proposed action. Comments submitted anonymously will be accepted and considered, however.

FOR FURTHER INFORMATION CONTACT: Ten Seth, Team Leader, 406-522-2520 or go to the Gallatin National Forest Web page: http://www.fs.fed.us/r1/gallatin/?page=projects/lonesomewood_proposal.

Individuals who use telecommunication devices for the deaf (TDD) may call the Federal Information Relay Service (FIRS) at 1-800-877-8339 between 8 a.m. and 8 p.m., e.t., Monday through Friday.

SUPPLEMENTARY INFORMATION:

Purpose and Need for Action

The Lonesome Wood Vegetation Management proposal is an outcome of the Hebgen Watershed Risk Assessment. The main concern for this area is wildland fuel buildup in the area because there is a high degree of wildland urban interface and reliance on a single road for access in and out of the area. There are also opportunities to restore highly valued aspen habitats.

Large crown fires with high fire intensity, dangerous flame lengths, rapid rates of fire spread and long spotting distances for firebrands are expected under the existing conditions. Prescribed burn units are fairly open with non-continuous fuels. Over time these open areas are slowly being encroached by conifer trees. The encroachment reduces the effectiveness of the areas as natural fuel breaks. Aspen stands are being encroached by conifers of various age classes. Conifer removal and/or prescribed burning are intended to reinvigorate aspen clones. The proposed treatments maintain or restore the characteristics of ecosystem composition and structure to reduce the risk of uncharacteristic wildfire effects in the wildland urban interface.

Proposed Action

The Gallatin National Forest proposes to reduce wildland fuel and aspen forest competition by forest thinning; removal of excessive dead and down trees, branches and activity related slash, and by slashing and prescribed burning. The proposal includes a combination of treatments on approximately 2,900 acres along the Hebgen Lake Road (FSR 167) which is on the west side of Hebgen Lake. Generally, treatment would remove about 50% to 60% of the existing trees per acre in all diameter classes with an objective of maintaining approximately 13 feet between tree crowns. Forest thinning would be implemented by mechanical and hand methods. Activities may include, but are not limited to thinning through logging, slashing small trees, whole tree yarding, yarding unmerchantable material, hand and machine piling, pile and broadcast burning, hauling of commercial material, firewood removal, biomass reduction such as chipping, erosion control, construction of and rehabilitation of skid trails, landings and temporary roads. An estimated 6-6.5 miles of temporary road would be needed to implement the proposed action.

Approximately 370 acres of the proposed treatments are in the Lionhead Inventoried Roadless Area. Treatments in the roadless area are designed to restore ecosystem processes by removing generally small diameter trees. Approximately 295 acres of thinning is limited to ladder fuels, which are generally less than six inches in diameter. Another 25 acres is proposed for prescribed burning with some slashing of small trees as a pre-treatment. About 50 acres is proposed for mechanical thinning of generally small diameter trees. No temporary or permanent roads are proposed in the inventoried roadless area.

As proposed, all project work would be completed within 6-9 years, once implementation begins after a decision. A decision is expected in 2010 with implementation to begin in 2011.

The Project would implement priorities and applicable direction from the Gallatin Forest Plan and Federal Fire Policy which includes the National Fire Plan, Cohesive Strategy and the 2001 Review and Update of the 1995 Federal Wildland Fire Management Policy.

Possible Alternatives

Three alternatives have been identified: The No Action, Proposed Action and an Alternative to reduce impacts to Moose Winter Range.

Responsible Official

As the Gallatin Forest Supervisor I am the responsible official for this decision.

Nature of Decision To Be Made

What, if anything, should be done to reduce wildfire risks to life and property in the identified wildland urban interface/evacuation route in the Project area? What if anything should be done to enhance aspen communities in the project area? What associated activities, mitigation measures, restoration actions and monitoring requirements would be included in the decision?

Preliminary Issues

The following issues have been identified as possible decision factors or issues of special interest to the public: effects to the fire/fuels environment; effects to the inventoried roadless area (Lionhead 1-193); effects to habitat for Canada lynx, grizzly bear habitat and moose winter habitat.

Scoping Process

This notice of intent initiates the scoping process, which guides the development of the environmental impact statement. Two comment periods were completed for this Project during the development and publication of the Environmental Assessment and Decision/FONSI that supported the 2008 Decision. Currently, the Project is listed in the Schedule of Proposed Actions. In addition to comments received in response to the NOI and forthcoming draft environmental impact statement, there will be an open house. The Open house is scheduled on Thursday June 24 at the Hebgen Lake Ranger District between 3-7 pm.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate during comment periods provided so that substantive comments and objections are made available to the Forest Service at a time when they can meaningfully consider them. To assist the Forest Service in identifying and considering issues, comments should be specific to concerns associated with the proposed wildland fuel and aspen treatments. Reviewers may wish to refer to the Council on Environmental Quality Regulations for implementing the procedural provisions of the National Environmental Policy Act at 40 CFR 1503.3 in structuring comments.

Dated: June 1, 2010.
Mary Erickson,
Forest Supervisor.

[FR Doc. 2010-13729 Filed 6-8-10; 8:45 am]

BILLING CODE 3410-11-M